NATIONAL AERONAUTICS AND SPACE ADMINISTRATION

[Notice 04-018]

NASA Space Science Advisory Committee, Astronomical Search for Origins and Planetary Systems Subcommittee; Meeting

AGENCY: National Aeronautics and Space Administration.

ACTION: Notice of meeting.

SUMMARY: The National Aeronautics and Space Administration announces a meeting of the NASA Space Science Advisory Committee (SScAC), Astronomical Search for Origins and Planetary Systems Subcommittee (OS).

DATES: Tuesday, February 24, 2004, 8:30 a.m. to 5:30 p.m.; and Wednesday, February 25, 2004, 8:30 a.m. to 3 p.m.

ADDRESSES: Inn and Conference Center, University of Maryland, Room 1105, 3501 University Boulevard East, Adelphi, Maryland 20783.

FOR FURTHER INFORMATION CONTACT: Dr. Hashima Hasan, Code SZ, National Aeronautics and Space Administration, Washington, DC 20546, 202/395-0710, hhasan@hq.nasa.gov.

SUPPLEMENTARY INFORMATION: The meeting will be open to the public up to the seating capacity of the room. The agenda for the meeting is as follows:

• Associate Administrator's Report on Space Science Programs

• Astronomy and Physics Director's Report on Astronomy and Physics Programs

• Theme Scientist's Report on Origins Theme Program

• Discussion of Astronomy and Physics Research and Technology Programs

It is imperative that the meeting be held on these dates to accommodate the scheduling priorities of the key participants. Visitors will be requested to sign a visitor's register.

Michael F. O'Brien,
Assistant Administrator for External Relations, National Aeronautics and Space Administration.

[FR Doc. 04-1853 Filed 1-28-04; 8:45 am]

BILLING CODE 7510-01-P